DEPARTMENT OF THE INTERIOR

United States Geological Survey

[GX21GG009950000]

Request for Nominations for Members To Serve on the Scientific Earthquake Studies Advisory Committee (SESAC), and the National Earthquake Prediction Evaluation Council (NEPEC)

AGENCY: United States Geological Survey, Department of the Interior.

ACTION: Request for Nominations.

SUMMARY: The Department of the Interior is seeking nominations to serve on the Scientific Earthquake Studies Advisory Committee (SESAC), and the National Earthquake Prediction Evaluation Council (NEPEC). The SESAC advises the Director of the U.S. Geological Survey (USGS) on matters relating to the USGS's participation in the National Earthquake Hazards Reduction Program. The NEPEC provides advice and recommendations to the Director of the USGS on earthquake predictions and related scientific research.

DATES: Nominations for the SESAC and NEPEC must be received by November 30, 2020.

ADDRESSES: SESAC nominations can be sent to Dr. Gavin Hayes at ghayes@usgs.gov. Additional information about SESAC may be found at https://www.usgs.gov/natural-hazards/earthquake-hazards/scientific-earthquake-studies-advisory-committee-sesac. NEPEC nominations can be sent to Dr. Michael Blanpied at mblanpied@usgs.gov. Additional information about the NEPEC may be found at https://www.usgs.gov/natural-hazards/earthquake-hazards/national-earthquake-prediction-evaluation-council-nepec.

FOR FURTHER INFORMATION CONTACT: Inquiries regarding SESAC can be directed to Dr. Gavin Hayes, Senior Science Advisor for Earthquake and Geologic Hazards and Designated Federal Officer, ghayes@usgs.gov, 303-273-8421. Inquiries regarding NEPEC can be directed to Dr. Michael Blanpied, Associate Coordinator, Earthquake Hazards Program and Designated Federal Officer, mblanpied@usgs.gov, 703-648-6696.

SUPPLEMENTARY INFORMATION:

SESAC

The SESAC was established in accordance with the Earthquake Hazards Reduction Authorization Act of 1977. The SESAC advises the Director of the USGS on matters relating to the USGS's participation in the National Earthquake Hazards Reduction Program (NEHRP), including its roles, goals and objectives within that program, its capabilities and research needs, guidance on achieving major objectives, and establishing and measuring performance goals. Membership is composed of non-Federal experts who are qualified in the seismic sciences and other appropriate fields. The USGS Director will give due consideration to recommendations from organizations and societies that may include: National Academy of Sciences; Geological Society of America; Seismological Society of America; American Society of Civil Engineers; American Geophysical Union; Earthquake Engineering Research Institute. Nominees should have established records of distinguished service, be familiar with relevant areas of seismic science and related fields and have at least a general familiarity with USGS programmatic activities relating to its participation in NEHRP.

NEPEC

The NEPEC was established under the Earthquake Hazards Reduction Authorization Act of 1977 and provides advice and recommendations to the Director of the USGS on earthquake predictions, forecasts, advisories, and related scientific research. The Director of the USGS appoints members who are experts in the scientific disciplines that bear on earthquake prediction or other relevant disciplines involved in forecasting natural hazards or public response to such forecasts. Nominations are sought from the private and public sectors and nominees should have established records of distinguished service, be familiar with relevant areas of seismic science and related fields and have at least a general familiarity with USGS programmatic activities relating to its participation in NEHRP.

SESAC and NEPEC nominations should include a resume providing adequate description of the nominee's qualifications, including information that would enable the Department of the Interior to make an informed decision regarding meeting the membership requirements of the SESAC and NEPEC, and permit the Department of the Interior to contact a potential member. Nominations are to be sent to the email address listed under ADDRESSES.

Non-Federal members of the SESAC and NEPEC serve without compensation. However, while away from their homes or regular places of business, non-Federal SESAC and NEPEC members engaged in SESAC and NEPEC business, approved by the Designed Federal Officer, may be allowed travel expenses, including per diem in lieu of subsistence, in the same manner as persons employed intermittently in Government service under 5 U.S.C. 5703.

As appropriate, certain SESAC and NEPEC members may be appointed as special Government employees (SGEs). Please be aware that applicants selected to serve as SGEs will be required, prior to appointment, to file a Confidential Financial Disclosure Report in order to avoid involvement in real or apparent conflicts of interest. You may find a copy of the Confidential Financial Disclosure Report at the following website: https://www.doi.gov/ethics/special-government-employees/financial-disclosure.

Additionally, after appointment, members appointed as SGEs will be required to meet applicable financial disclosure and ethics training requirements. Please contact 202-208-7960 or DOI_Ethics@sol.doi.gov with any questions about the ethics requirements for members appointed as SGEs.

Authority: 5 U.S.C. Appendix 2.

Linda Huey,
Program Specialist, USGS Natural Hazards Mission Area.

[FR Doc. 2020-23991 Filed 10-28-20; 8:45 am]

BILLING CODE 4338-11-P